DEPARTMENT OF TRANSPORTATION

Federal Railroad Administration

[Waiver Petition Docket Number FRA-2005-21964]

Long Island Railroad; Supplemental Notice of Public Hearing and Extension of Comment Period

On September 16, 2005, FRA published a notice in the Federal Register announcing the Long Island Railroad's (LIRR) intent to be granted a waiver of compliance from certain provisions of the Railroad Operating Practices regulations, 49 Code of Federal Regulations (CFR) part 218, regarding blue signal protection of workers. See 70 FR 54801. Specifically, LIRR requests relief from the requirements of 49 CFR 218.29 Alternate methods of protection, at its Diesel Service Facilities in Richmond Hills, NY, and Long Island City, NY.

According to LIRR, both facilities are stub-end yards jointly used by both its transportation and mechanical forces. These yards function to service, maintain, inspect, and dispatch the diesel passenger fleet for the LIRR. Each facility has a speed limit of 5 mph, with fixed derails on each service track, and manually operated switches. Yard movement is controlled by a yardmaster. Due to the configuration and service demands, the yard cannot facilitate the placement of a derail at the 150-foot interval as prescribed in § 218.29. Additionally, LIRR believes that lining and locking the manual switches increases potential error of proper switch alignment, and is a safety concern for all employees working in the area. Therefore, LIRR requests that employees at these two facilities be allowed to place derails at a distance of 50-feet from the equipment. LIRR states that they will post signage to reinforce the 5-mph speed restriction, as well as paint physical clearance lines denoting the 50-foot distance.

As a result of the comments received by FRA concerning this waiver petition, FRA has determined that a public hearing is necessary before a final decision is made on this petition. Accordingly, a public hearing is hearby set to begin at 9 a.m. on December 21, 2005, in Conference Room 820 at the Hunters Point Plaza, 47-40 21st Street, Long Island City, New York 11101. Interested parties are invited to present oral statements at this hearing.

The hearing will be informal and will be conducted in accordance with FRA's Rules of Practice (49 CFR part 211.25) by a representative designated by FRA. FRA's representative will make an opening statement outlining the scope of the hearing, as well as any additional procedures for the conduct of the hearing. The hearing will be a non-adversarial proceeding in which all interested parties will be given the opportunity to express their views regarding this waiver petition, without cross-examination. After all initial statements have been completed, those persons wishing to make a brief rebuttal statements will be given an opportunity to do so in the same order in which initial statements were made.

In addition, FRA is extending the comment period in this proceeding until December 30, 2005. FRA reserves the right to announce a further extension of the comment period for the purpose of receiving post-hearing submissions should that appear appropriate in the judgment of the Board based on testimony received at the public hearing. All communications concerning these proceedings should identify the appropriate docket number (Waiver Petition Docket Number FRA-2005-21964) and must be submitted to the Docket Clerk, DOT Docket Management Facility, Room PL-401 (Plaza Level), 400 7th Street, SW., Washington, DC 20590. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on November 15, 2005.
Grady C. Cothen, Jr.,
Deputy Associate Administrator for Safety Standards and Program Development.

[FR Doc. 05-23027 Filed 11-21-05; 8:45 am]

BILLING CODE 4910-06-P